COMMISSION ON CIVIL RIGHTS

Agenda and Notice of Public Meeting of the Wisconsin Advisory Committee

Notice is hereby given, pursuant to the provisions of the rules and regulations of the U.S. Commission on Civil Rights, that a meeting of the Wisconsin Advisory Committee to the Commission will convene at 9:00 a.m. and adjourn at 1:00 p.m. on Wednesday, March 28, 2001, at the Radisson Inn Harbourwalk, 223 Gaslight Circle, Racine, Wisconsin. The purpose of the meeting is to hold a press conference to release the Committee's report, Community Forum on Race Relations in Racine County, Wisconsin. Also, the Committee will discuss current events and plan future activities.

Persons desiring additional information, or planning a presentation to the Committee, should contact Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, March 8, 2001.
Edward A. Hailes, Jr.,
General Counsel.

[FR Doc. 01-6632 Filed 3-16-01; 8:45 am]

BILLING CODE 6335-01-P